DEPARTMENT OF TRANSPORTATION

Federal Aviation Administration

14 CFR Part 71

[Docket No. FAA-2013-0258; Airspace Docket No. 13-ANM-12]

Modification of Class D and E Airspace; Twin Falls, ID

AGENCY: Federal Aviation Administration (FAA), DOT.

ACTION: Final rule.

SUMMARY: This action modifies Class E airspace at Twin Falls Joslin Field-Magic Valley Regional Airport, Twin Falls, ID, to accommodate aircraft using the Navigation (RNAV) Global Positioning System (GPS) and the Instrument Landing System (ILS) or Localizer (LOC) standard instrument approach procedures at the airport. This action also updates the geographic coordinates of the airport and navigation aid for the respective Class E airspace areas, as well as corrects the airport name to Twin Falls Joslin Field-Magic Valley Regional Airport. Reference to Class D airspace, omitted from the Title in the notice of proposed rulemaking is included in this rule. This improves the safety and management of Instrument Flight Rules (IFR) operations at the airport.

DATES: Effective date, 0901 UTC, October 17, 2013. The Director of the Federal Register approves this incorporation by reference action under 1 CFR Part 51, subject to the annual revision of FAA Order 7400.9 and publication of conforming amendments.

FOR FURTHER INFORMATION CONTACT: Eldon Taylor, Federal Aviation Administration, Operations Support Group, Western Service Center, 1601 Lind Avenue SW., Renton, WA 98057; telephone (425) 203-4537.

SUPPLEMENTARY INFORMATION:

History

On May 1, 2013, the FAA published in the Federal Register a notice of proposed rulemaking (NPRM) to modify controlled airspace at Twin Falls Joslin Field-Magic Valley Regional Airport, Twin Falls, ID (78 FR 25406). Interested parties were invited to participate in this rulemaking effort by submitting written comments on the proposal to the FAA. No comments were received. Subsequent to publication, the FAA found that the Class D airspace reference was omitted from the Title, and is added in this rule to note the airport's name change. Except for editorial changes, and the changes made above, this rule is the same as published in the NPRM.

Class D and E airspace designations are published in paragraphs 5000, 6002, 6004 and 6005, respectively, of FAA Order 7400.9W dated August 8, 2012, and effective September 15, 2012, which is incorporated by reference in 14 CFR 71.1. The Class D and Class E airspace designations listed in this document will be published subsequently in that Order.

The Rule

This action amends Title 14 Code of Federal Regulations (14 CFR) Part 71 by modifying Class E airspace extending upward from 700 feet above the surface and 1,200 feet above the surface at Twin Falls Joslin Field-Magic Valley Regional Airport, Twin Falls, ID, to accommodate aircraft using the RNAV (GPS) and the ILS or LOC standard instrument approach procedures at the airport. Also, the geographic coordinates of the airport and Twin Falls VHF Omni-Directional Radio Range Tactical Air Navigation Aid (VORTAC) is updated to coincide with the FAA's aeronautical database for the respective Class E airspace areas. This action is necessary for the safety and management of IFR operations. The airport formerly called Twin Falls-Sun Valley Regional Airport, Joslin Field or Joslin Field-Magic Valley Regional is renamed Twin Falls Joslin Field-Magic Valley Regional Airport under its respective Class D and E airspace areas.

The FAA has determined this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified this rule, when promulgated, does not have a significant economic impact on a substantial number of small entities under the criteria of the Regulatory Flexibility Act. The FAA's authority to issue rules regarding aviation safety is found in Title 49 of the U.S. Code. Subtitle 1, Section 106 discusses the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it modifies controlled airspace at Twin Falls Joslin Field-Magic Valley Regional Airport, Twin Falls, ID.

Environmental Review

The FAA has determined that this action qualifies for categorical exclusion under the National Environmental Policy Act in accordance with FAA Order 1050.1E, “Environmental Impacts: Policies and Procedures,” paragraph 311a. This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR Part 71 as follows:

PART 71—DESIGNATION OF CLASS A, B, C, D AND E AIRSPACE AREAS; AIR TRAFFIC SERVICE ROUTES; AND REPORTING POINTS

1. The authority citation for 14 CFR Part 71 continues to read as follows:

Authority: 49 U.S.C. 106(g), 40103, 40113, 40120; E. O. 10854, 24 FR 9565, 3 CFR, 1959-1963 Comp., p. 389.

§ 71.1 [Amended]

2. The incorporation by reference in 14 CFR 71.1 of the Federal Aviation Administration Order 7400.9W, Airspace Designations and Reporting Points, dated August 8, 2012, and effective September 15, 2012 is amended as follows:

Paragraph 5000 Class D airspace.

* * * * *

ANM ID D Twin Falls, ID [Modified]

Twin Falls Joslin Field-Magic Valley Regional Airport, ID

(Lat. 42°28′55″ N., long. 114°29′16″ W.)

That airspace extending upward from the surface to and including 6,700 feet MSL within a 4.3-mile radius of Twin Falls Joslin Field-Magic Valley Regional Airport. This Class D airspace area is effective during the specific dates and times established in advance by a Notice to Airmen. The effective date and time will thereafter be continuously published in the Airport/Facility Directory.

Paragraph 6002 Class E airspace designated as surface areas.

* * * * *

ANM ID E2 Twin Falls, ID [Modified]

Twin Falls Joslin Field-Magic Valley Regional Airport, ID

(Lat. 42°28′55″ N., long. 114°29′16″ W.)

Within a 4.3-mile radius of Twin Falls Joslin Field-Magic Valley Regional Airport. This Class E airspace area is effective during the specific dates and times established in advance by a Notice to Airmen. The effective date and time will thereafter be continuously published in the Airport/Facility Directory.

Paragraph 6004 Class E airspace designated as an extension to Class D surface area.

* * * * *

ANM ID E4 Twin Falls, ID [Modified]

Twin Falls Joslin Field-Magic Valley Regional Airport, ID

(Lat. 42°28′55″ N., long. 114°29′16″ W.)

Twin Falls VORTAC

(Lat. 42°28′48″ N., long. 114°29′22″ W.)

That airspace extending upward from the surface 4.2 miles south and 4.4 miles north of the Twin Falls VORTAC 086° and 281° radials extending from the 4.3-mile radius of Twin Falls Joslin Field-Magic Valley Regional Airport to 9.2 miles east and 9.2 miles west of the VORTAC. This Class E airspace area is effective during the specific dates and times established in advance by a Notice to Airmen. The effective date and time will thereafter be continuously published in the Airport/Facility Directory.

Paragraph 6005 Class E airspace areas extending upward from 700 feet or more above the surface of the earth.

* * * * *

ANM ID E5 Twin Falls, ID [Modified]

Twin Falls Joslin Field-Magic Valley Regional Airport, ID

(Lat. 42°28′55″ N., long. 114°29′16″ W.)

That airspace extending upward from 700 feet above the surface within 10.5 miles north and 6 miles south of the Twin Falls Joslin Field-Magic Valley Regional Airport 086° bearing extending 26.1 miles east, and within 4.3 miles each side of the airport 156° bearing extending 8.3 miles southeast and within 10.3 miles north and 7.3 miles south of the airport 281° bearing extending 20 miles west; that airspace extending upward from 1,200 feet above the surface bounded by a line beginning at lat. 43°22′00″ N., long. 115°08′00″ W.; to lat. 43°09′00″ N., long. 114°03′00″ W.; to lat. 42°33′00″ N., long. 114°03′00″ W.; to lat. 42°18′00″ N., long. 114°06′00″ W.; to lat. 41°48′00″ N., long. 115°00′00″ W.; to lat. 43°01′00″ N., long. 115°20′00″ W., thence to the point of beginning.

Issued in Seattle, Washington, on June 24, 2013.
Clark Desing,
Manager, Operations Support Group, Western Service Center.

[FR Doc. 2013-16036 Filed 7-3-13; 8:45 am]

BILLING CODE 4910-13-P